DEPARTMENT OF COMMERCE

Patent and Trademark Office

[Docket No. PTO-T-2011-0050]

Establishment of a One-Year Retention Period for Trademark-Related Papers That Have Been Scanned Into the Trademark Initial Capture Registration System

AGENCY: United States Patent and Trademark Office, Commerce.

ACTION: Notice.

SUMMARY: The United States Patent and Trademark Office (USPTO) is establishing a one-year retention period that began on September 26, 2011, for papers scanned into the Trademark Initial Capture Registration System (TICRS) prior to September 26, 2011, or began or begins on a paper's submission date, for papers scanned into TICRS on or after September 26, 2011. After the expiration of the one-year retention period, the USPTO will dispose of the paper documents unless, within sufficient time prior to disposal, the relevant trademark applicant or owner files a request to correct the electronic record in TICRS, and the request remains outstanding at the time disposal would otherwise have occurred. The one-year retention period for papers scanned into TICRS will reduce the costs currently associated with indefinitely warehousing paper documents, while permitting sufficient time for the review and rarely needed correction of the scanning of such paper documents. The USPTO received no comments to the notice published September 23, 2011 on this proposal.

DATES: Applicability Date: For papers scanned into TICRS prior to September 26, 2011, the one-year retention period began on September 26, 2011. For papers scanned into TICRS on or after September 26, 2011, the one-year retention period began or begins on the paper's submission date.

FOR FURTHER INFORMATION CONTACT: Cynthia C. Lynch, Office of the Deputy Commissioner for Trademark Examination Policy, by telephone at (571) 272-8742.

SUPPLEMENTARY INFORMATION:

Background

On September 23, 2011, the USPTO published a notice and request for comments on a proposal to establish a retention period of one year for trademark-related papers that have been scanned into TICRS. See Request for Comments on Establishment of a One-Year Retention Period for Trademark-Related Papers That Have Been Scanned Into the Trademark Initial Capture Registration System, 76 FR 59114 (September 23, 2011), 1371 OG 168 (October 18, 2011). The USPTO received no comments in response to the notice.

The proposed change to the USPTO's past practice of indefinitely retaining papers that have been scanned into TICRS stems from the relatively small number of paper trademark-related submissions received at the USPTO and the USPTO's practice of scanning all paper documents into TICRS, resulting in paper documents that duplicate the electronic record in TICRS. Moreover, the USPTO's multiple reviews of the electronic record in TICRS to ensure accuracy of the data have rendered the practice of indefinite paper retention unnecessary and not cost-effective.

Changes: One-Year Retention Period for Paper Records

In view of the lack of any public comments opposing the establishment of a one-year retention period, the USPTO is establishing a one-year retention period for the retention of paper records. Specifically, the one-year retention period begins on: September 26, 2011, for papers scanned into TICRS prior to September 26, 2011; or a paper's submission date, for papers scanned into TICRS on or after September 26, 2011. TICRS is available to the public through the Trademark Document Retrieval (TDR) and the Trademark Status and Document Retrieval (TSDR) databases on the USPTO Web site. This plan allows the USPTO and the public sufficient time to review and determine the accuracy of the record in TICRS/TDR/TSDR and request any needed corrections, thereby providing assurance that the record is correct. The plan also significantly reduces the costs currently associated with indefinitely warehousing duplicative paper records. Paper filings with electronic and digital media attachments are not subject to the one-year retention period and will remain retrievable, consistent with past practice.

After the expiration of the one-year retention period, the USPTO will dispose of the paper records, unless a request to correct the electronic record in TICRS remains outstanding. Requests to correct the electronic records in TICRS should be emailed to “TM-TDR-Correct@uspto.gov” using the subject line “Electronic Record Correction” at least one month prior to the expiration of the one-year retention period to allow sufficient time to process the request. The request should include: (1) The serial number or registration number; (2) the date and nature of the paper document filed; (3) a description of the error(s) in TICRS/TDR/TSDR; (4) the name and telephone number of the applicant or owner; and (5) a replacement copy of the paper document, if available. The USPTO will review the request and update the record within 21 days of receipt, if appropriate. The applicant or owner may check TICRS or TDR/TSDR approximately three weeks after submitting the request to verify entry of the requested changes.

Dated: January 17, 2012.
David J. Kappos,
Under Secretary of Commerce for Intellectual Property and Director of the United States Patent and Trademark Office.

[FR Doc. 2012-1437 Filed 1-24-12; 8:45 am]

BILLING CODE 3510-16-P